DEPARTMENT OF AGRICULTURE

Natural Resources Conservation Service; Notice of a Finding of No Significant Impact

Hickory Creek Watershed; Coffee, Grundy, Warren Counties; Tennessee

AGENCY: Natural Resources Conservation Service; USDA.

SUMMARY: Pursuant to Section 102(2)(C) of the National Environmental Policy Act of 1969; the Council on Environmental Quality Regulations (40 CFR part 1500); and the Natural Resources Conservation Service Guidelines (7 CFR Part 650); the Natural Resources Conservation Service, U.S. Department of Agriculture, gives notice that an environmental impact statement is not being prepared for the Hickory Creek Watershed; Coffee, Grundy, and Warren Counties; Tennessee.

FOR FURTHER INFORMATION CONTACT: James W. Ford, State Conservationist, Natural Resources Conservation Service, 675 U.S. Courthouse, 801 Broadway, Nashville, Tennessee 37203, telephone number (615) 277-2531.

SUPPLEMENTARY INFORMATION: The environmental assessment of this federally assisted action indicates that the project will not cause significant local, regional, or national impacts on the environment. As a result of these findings, James W. Ford, State Conservationist, has determined that the preparation and review of an environmental impact statement is not needed for this project.

Hickory Creek Watershed, Tennessee

Notice of a Finding of No Significant Impact

The project purpose is watershed protection. The planned works of improvement include installation of animal waste management systems and measures to reduce erosion and sedimentation. Federal financial assistance will be provided to accelerate financial and technical assistance for land treatment.

The Notice of a Finding of No Significant Impact (FONSI) has been forwarded to the Environmental Protection Agency and to various federal, state, and local agencies and interested parties. A limited number of copies of the FONSI are available to fill single copy requests at the above address. Basic data developed during the environmental assessment are on file and may be reviewed by contacting James W. Ford.

No administrative action on implementation of the proposal will be taken until 30 days after the date of this publication in the Federal Register.

(This activity is listed in the Catalog of Federal Domestic Assistance under No. 10.904, Watershed Protection and Flood Prevention, and is subject to the provisions of Executive Order 12372, which requires intergovernmental consultation with state and local officials.)

Dated: January 3, 2001.
James W. Ford,
State Conservationist.

[FR Doc. 01-1722 Filed 1-19-01; 8:45 am]

BILLING CODE 3410-16-M